DEPARTMENT OF THE TREASURY

Submission for OMB Review; Comment Request

March 30, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before May 8, 2000 to be assured of consideration.

Internal Revenue Service (IRS)

OMB Number: 1545-0166.

Form Number: IRS Form 4255.

Type of Review: Extension.

Title: Recapture of Investment Credit.

Description: Internal Revenue Code (IRC) section 50(a) and Regulation section 1.47 require that taxpayers attach a statement to their return showing the computation of the recapture tax when investment credit property is disposed of before the end of the recapture period used in the original computation of the investment credit.

Estimated Number of Respondents/Recordkeepers: 20,000.

Estimated Burden Hours Per Respondent/Recordkeeper:

Recordkeeping—6 hr., 28 min.

Learning about the law or the form—1 hr., 35 min.

Preparing, copying, assembling, and sending the form to the IRS—1 hr., 46 min.

Frequency of Response: On occasion.

Estimated Total Reporting/Recordkeeping Burden: 196,400 hours.

OMB Number: 1545-0233.

Form Number: IRS Form 7004.

Type of Review: Extension.

Title: Application for Automatic Extension of Time to File Corporation Income Tax Return.

Description: Form 7004 is used by corporations and certain non-profit institutions to request an automatic 6-month extension of time to file their income tax returns. The information is needed by IRS to determine whether Form 7004 was timely filed so as not to impose a late filing penalty in error and also to insure that a proper amount of tax was computed and deposited.

Estimated Number of Respondents/Recordkeepers: 1,097,748.

Estimated Burden Hours Per Respondent/Recordkeeper:

Recordkeeping—5 hr., 44 min.

Learning about the law or the form—1 hr., 22 min.

Preparing the form—2 hr., 27 min.

Copying, assembling, and sending the form to the IRS—16 min.

Frequency of Response: Annually.

Estimated Total Reporting/Recordkeeping Burden: 10,790,863 hours.

OMB Number: 1545-0387.

Form Number: IRS Form 4419.

Type of Review: Extension.

Title: Application for Filing Information Returns Magnetically/Electronically.

Description: Under section 601(e)(2)(a) of the Internal Revenue Code, any person, including corporations, partnerships, individuals, estates and trusts, who is required to file 250 or more information returns magnetically/electronically. Payers required to file on magnetic media or electronically must complete Form 4419 to receive authorization to file.

Estimated Number of Respondents: 15,000.

Estimated Burden Hours Per Respondent: 26 minutes.

Frequency of Response: On occasion.

Estimated Total Reporting Burden: 6,500 hours.

OMB Number: 1545-1412.

Regulation Project Number: FI-54-93 Final.

Type of Review: Extension.

Title: Clear Reflection of Income in the Case of Hedging Transactions.

Description: This information is required by the Internal Revenue Service to verify with section 446 of the Internal Revenue Code. This information will be used to determine that the amount of tax has been computed correctly.

Estimated Number of Recordkeepers: 110,000.

Estimated Burden Hours Per Recordkeeper: 12 minutes.

Estimated Total Recordkeeping Burden: 22,000 hours.

OMB Number: 1545-1434.

Regulation Project Number: CO-26-96 Final.

Type of Review: Extension.

Title: Regulations Under Section 382 of the Internal Revenue Code of 1986; Application of Section 382 in Short Taxable Years and With Respect to Controlled Groups.

Description: Section 382 limits the amount of income that can be offset by loss carryovers after an ownership change. These regulations provide rules for applying section 382 in the case of short taxable years and with respect to controlled groups.

Estimated Number of Respondents: 3,500.

Estimated Burden Hours Per Respondent: 15 minutes.

Frequency of Response: Annually.

Estimated Total Reporting Burden: 875 hours.

OMB Number: 1545-1520.

Revenue Procedure Number: Revenue Procedures 2000-4, 2000-5, 2000-6, 2000-8 (Formerly Revenue Procedures 99-4, 99-5, 99-6, and 99-8).

Type of Review: Extension.

Title: Letter Rulings (2000-4); Technical Advice (2000-5); Determination Letters (2000-6); User Fees (2000-8).

Description: The information requested in Revenue Procedure 2000-4, Revenue Procedure 2000-5, Revenue Procedure 2000-6 and Revenue Procedure 2000-8 is required to enable the Office of the Assistant Commissioner (Employee Plans and Exempt Organizations) of the Internal Revenue Service to give advice on filing letter ruling, determination letter, and technical advice requests, to process such requests, and to determine the amount of any user fees.

Estimated Number of Respondents: 83,068.

Estimated Burden Hours Per Respondent: 2 hours, 8 minutes.

Frequency of Response: On occasion.

Estimated Total Reporting Burden: 177,986 hours.

OMB Number: 1545-1522.

Regulation Project Number: Revenue Procedures 2000-1 and 2000-3.

Type of Review: Extension.

Title: 26 CFR 601.201—Rulings and Determination Letters.

Description: The information requested in Revenue Procedure 2000-1 under sections 5.05, 6.07, 8.01, 8.02, 8.03, 8.04, 8.05, 8.07, 9.01, 10.06, 10.07, 10.09, 11.01, 11.06, 11.07, 12.11, 13.02, 15.02, 15.07, 15.08, 15.09, and 15.11, paragraph (B)(1) of Appendix A, and Appendix C, and question 35 of Appendix C, and in Revenue Procedure 2000-3 under sections 3.01(22), (24), (25), (27), and (28), 3.02(1) and (3), 4.01(26), and 4.02(1) and (7)(b) is required to enable the Internal Revenue Service to give advice on filing letter ruling and determination letter requests and to process such requests.

Estimated Number of Respondents: 3,800.

Estimated Burden Hours Per Respondent: 80 hours, 19 minutes.

Frequency of Response: On occasion.

Estimated Total Reporting Burden: 305,230 hours.

Clearance Officer: Garrick Shear, Internal Revenue Service, Room 5244, 1111 Constitution Avenue, NW, Washington, DC 20224.

OMB Reviewer: Alexander T. Hunt (202) 395-7860, Office of Management and Budget, Room 10202, New Executive Office Building, Washington, DC 20503.

Lois K. Holland,
Departmental Reports, Management Officer.

[FR Doc. 00-8419 Filed 4-5-00; 8:45 am]

BILLING CODE 4830-01-P